DEPARTMENT OF DEFENSE

Office of the Secretary

Defense Advisory Committee on Diversity and Inclusion; Notice of Federal Advisory Committee

AGENCY: Under Secretary of Defense for Personnel and Readiness (USD(P&R)), Department of Defense (DoD).

ACTION: Notice of Federal Advisory Committee meeting.

SUMMARY: The DoD is publishing this notice to announce that the following Federal Advisory Committee meeting of the Defense Advisory Committee on Diversity and Inclusion (DACODAI) will take place.

DATES: Thursday, October 27, 2022, open to the public from 12:30 p.m. to 4:15 p.m. (EST).

ADDRESSES: The meeting will be held by videoconference. Participant access information will be provided after registering. (Pre-meeting registration is required. See guidance in SUPPLEMENTARY INFORMATION “Meeting Accessibility”).

FOR FURTHER INFORMATION CONTACT: Ms. Shirley Raguindin, (571) 645-6952 (voice), osd.mc-alex.ousd-p-r.mbx.dacodai@mail.mil (email).

SUPPLEMENTARY INFORMATION: This meeting is being held under the provisions of the Federal Advisory Committee Act (FACA) (5 U.S.C., appendix), the Government in the Sunshine Act (5 U.S.C. 552b), and 41 CFR 102-3.140 and 102-3.150.

Availability of Materials for the Meeting: Additional information, including the agenda or any updates to the agenda, is available on the DACODAI website https://www.dhra.mil/DMOC/DACODAI. Materials presented in the meeting may also be obtained on the DACODAI website.

Purpose of the Meeting: The purpose of the meeting is for the DACODAI to receive briefings and have discussions on topics related to racial/ethnic diversity, inclusion and equal opportunity within the Armed Forces of the United States.

Agenda: Thursday, October 27, 2022 from 12:30 p.m. to 4:15 p.m. (EST). Welcome, Public Comment Review, Briefings, and DACODAI Discussions.

Meeting Accessibility: Pursuant to 5 U.S.C. 552b and 41 CFR 102-3.140 through 102-3.165, this meeting is open to the public from 12:30 p.m. to 4:15 p.m. (EST) on October 27, 2022. The meeting will be held by videoconference. The number of participants is limited and is on a first-come basis. All members of the public who wish to participate must register by contacting DACODAI at osd.mc-alex.ousd-p-r.mbx.dacodai@mail.mil or by contacting Ms. Shirley Raguindin at (571) 645-6952 no later than Monday, October 17, 2022 (by 5 p.m. EST). Once registered, the web address and/or audio number will be provided.

Special Accommodations: Individuals requiring special accommodations to access the public meeting should contact Ms. Shirley Raguindin at osd.mc-alex.ousd-p-r.mbx.dacodai@mail.mil or (571) 645-6952 no later than Monday, October 17, 2022 (by 5 p.m. EST) so that appropriate arrangements can be made.

Written Statements: Pursuant to 41 CFR 102-3.140, and section 10(a)(3) of the FACA, interested persons may submit a written statement to the DACODAI. Individuals submitting a written statement must submit their statement no later than 5 p.m. EST, Monday, October 17, 2022 to Ms. Shirley Raguindin at (571) 645-6952 (voice) or to osd.mc-alex.ousd-p-r.mbx.dacodai@mail.mil. If a statement is not received by Monday, October 17, 2022, prior to the meeting, which is the subject of this notice, then it may not be provided to or considered by the DACODAI during the October 27, 2022 meeting. The Designated Federal Officer will review all timely submissions with the DACODAI Chair and ensure they are provided to the members of the DACODAI.

Dated: September 30, 2022.
Aaron T. Siegel,
Alternate OSD Federal Register Liaison Officer, Department of Defense.

[FR Doc. 2022-21649 Filed 10-4-22; 8:45 am]

BILLING CODE 5001-06-P